DEPARTMENT OF COMMERCE

National Oceanic and Atmospheric Administration

RIN 0648-XB006

New England Fishery Management Council; Public Hearings

AGENCY: National Marine Fisheries Service (NMFS), National Oceanic and Atmospheric Administration (NOAA), Commerce.

ACTION: Notice; public hearings.

SUMMARY: The New England Fishery Management Council (Council) will hold eight public hearings to solicit comment on Draft Amendment 5 to the Atlantic Herring Fishery Management Plan (FMP).

DATES: Written public comments must be received on or before 5 p.m. EST, Monday, April, 9, 2012. The hearings will be held between March 2 and March 29, 2012. For specific dates and times, see SUPPLEMENTARY INFORMATION.

ADDRESSES: The hearings will be held in Rockport, ME; Gloucester, MA; Portsmouth, NH; Fairhaven, MA; Portland, ME; Plymouth, MA; Warwick, RI and Cape May, NJ. For specific locations, see SUPPLEMENTARY INFORMATION.

Written comments: Should be mailed to Council office at the address below. Mark on the envelope “Comments on Draft Herring Amendment 5”. Comments may also be sent via fax to (978) 465-3116 or submitted via email to comments@nefmc.org with “Comments on Draft Herring Amendment 5” in the subject line. The public hearing document can be obtained by contacting the New England Fishery Management Council at the address below.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: These hearings are being scheduled in accordance with the Magnuson-Stevens Fishery Conservation and Management Act. During or after these hearings, additional opportunities for comments on the Amendment 5 Draft Environmental Impact Statement (DEIS) may be provided in accordance with the National Environmental Policy Act. The agenda for the following eight hearings is as follows: NEFMC staff will brief the public on the herring amendment prior to opening the hearing for public comments. The schedule is as follows:

Amendment 5 Public Hearings: Locations, Schedules, and Agendas

1. Friday, March 2, 2012 from 9 a.m.-1 p.m.; Samoset Hotel, 220 Warrenton Street, Rockport, ME 04856; telephone: (207) 594-2511.

2. Wednesday, March 14, 2012 from 7 p.m.-9 p.m.; Massachusetts Department of Marine Fisheries Annisquam River Station, 30 Emerson Ave., Gloucester, MA 01930; telephone: (978) 282-0308.

3. Thursday, March 15, 2012 from 7 p.m.-9 p.m.; Sheraton Harborside Hotel, 250 Market Street, Portsmouth, NH 03801; telephone: (603) 431-2300.

4. Monday, March 19, 2012 from 7 p.m.-9 p.m.; Seaport Inn, 100 Middle Street, Fairhaven, MA 02719; telephone: (508) 997-1281.

5. Wednesday, March 21, 2012 from 7 p.m.-9 p.m.; Holiday Inn by the Bay, 88 Spring Street, Portland, ME, 04101; telephone: (207) 775-2311.

6. Tuesday, March 27, 2012 from 7 p.m.-9 p.m.; Radisson Plymouth, 180 Water St., Plymouth, MA 02360; telephone: (508) 747-4900.

7. Wednesday, March 28, 2012 from 7 p.m.-9 p.m.; Hilton Garden Inn, One Thurber St., Warwick, RI 02886; telephone: (401) 734-9600.

8. Thursday, March 29, 2012 from 7 p.m.-9 p.m.; Congress Hall, 251 Beach Ave., Cape May, NJ 08204; telephone: (609) 884-8421.

Special Accommodations

These meetings are physically accessible to people with disabilities. Requests for sign language interpretation or other auxiliary aids should be directed to Paul J. Howard (see ADDRESSES), at least 5 working days prior to the meeting date.

Authority: 16 U.S.C. 1801 et seq.

Dated: February 10, 2012.
Tracey L. Thompson,
Acting Director, Office of Sustainable Fisheries, National Marine Fisheries Service.

[FR Doc. 2012-3557 Filed 2-14-12; 8:45 am]

BILLING CODE 3510-22-P